AGENCY FOR INTERNATIONAL DEVELOPMENT

Senior Executive Service: Membership of Performance Review Board

ACTION: Notice.

SUMMARY: The Performance Review Board will initiate their labors on or about June 28, 2001. The following persons are members of the Performance Review Board for 2001.

Members

Corbett M. Flannery, Chair

Arnold J. Haiman, SES Member

Michael G. Kitay, SES Member

Adrienne R. Rish, SES Member

Franklin C. Moore, SES Member

John L. Wilkinson, SES Member

FOR FURTHER INFORMATION CONTACT: Mary Anne Conboy, 202-712-5438.

Dated: June 14, 2001.
Henry W. Reynolds,
Executive Secretary, Executive Resources Board.

[FR Doc. 01-16008 Filed 6-25-01; 8:45 am]

BILLING CODE 6116-01-M